DEPARTMENT OF ENERGY

Office of Fossil Energy

Ultra-Deepwater Advisory Committee; Correction

AGENCY: Department of Energy.

ACTION: Notice of Open Meeting Correction.

The Department of Energy published a notice of open meeting announcing a meeting of the Ultra-Deepwater Advisory Committee, 73 FR 8863. In FR Doc. E8-2891, published on Friday, February 15, 2008, page 8863, under SUPPLEMENTARY INFORMATION, first column, forty-sixth line, remove “onshore unconventional” and add in its place “ultra-deepwater”.

Issued in Washington, DC on March 3, 2008.
Rachel Samuel,
Deputy Committee Management Officer.

[FR Doc. E8-4536 Filed 3-6-08; 8:45 am]

BILLING CODE 6450-01-P